NUCLEAR REGULATORY COMMISSION

[Docket Nos. 50-250 and 50-251]

Florida Power and Light Company, Turkey Point Nuclear Plant; Notice of Receipt of Application for Renewal of Facility Operating License Nos. DPR-31 and DPR-41 for an Additional Twenty-Year Period

On September 11, 2000, the U.S. Nuclear Regulatory Commission received, by letter dated September 8, 2000, an application from Florida Power and Light Company, filed pursuant to section 104(b) of the Atomic Energy Act of 1954, as amended, and 10 CFR part 54, for renewal of Facility Operating License Nos. DPR-31 and DPR-41, which authorizes the applicant to operate Turkey Point Units 3 and 4 for an additional 20-year period. The current operating licenses for Turkey Point Units 3 and 4 expire on July 19, 2012 and April 10, 2013, respectively. Turkey Point Units 3 and 4 are pressurized-water reactors designed by Westinghouse and are located in Miami-Dade County, Florida. The acceptability of the tendered application for docketing and other matters, including an opportunity to request a hearing, will be the subject of a subsequent Federal Register notice.

A copy of the application is available for public inspection at the Commission's Public Document Room, 11555 Rockville Pike (first floor), Rockville, Maryland, and on the NRC website at http://www.nrc.gov, (the Electronic Reading Room).

Dated at Rockville, Maryland, this 19th day of September 2000.
For the Nuclear Regulatory Commission.
Christopher I. Grimes,
Chief, License Renewal and Standardization Branch, Division of Regulatory Improvement Programs, Office of Nuclear Reactor Regulation.

[FR Doc. 00-24664 Filed 9-25-00; 8:45 am]

BILLING CODE 7590-01-P